DEPARTMENT OF TRANSPORTATION

Federal Aviation Administration

Public Notice for Waiver of Aeronautical Land-Use Assurance; Capital Region International Airport, Lansing, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of remnants from 8 parcels of land, totaling approximately 7.33 acres. Current use and present condition is undeveloped land compatible with local commercial/industrial zoning classification. The land was acquired under the FAA Project Numbers 3-26-0055-3906, 3-26-0055-4107, and 3-26-0055-44208. The remnants left from construction activities during airport development are not usable to the airport due to shape and size. There are no impacts to the airport by allowing the airport to dispose of the property, since the land is no longer needed for aeronautical use. Subject land may provide good commercial/industrial development opportunities for the community and are well outside airport perimeter fence limits. Approval does not constitute a commitment by the FAA to financially assist in the disposal of the subject airport property nor a determination of eligibility for grant-in-aid funding from the FAA. The disposition of proceeds from the sale of the airport property will be in accordance FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before May 2, 2011.

ADDRESSES: Documents reflecting this FAA action may be reviewed at the Detroit Airports District Office.

FOR FURTHER INFORMATION CONTACT: Marlon Pena, Program Manager, Detroit Airports District Office, Federal Aviation Administration, 11677 South Wayne Road, Romulus, Michigan 48174. Telephone Number (734) 229-2909 FAX Number (734) 229-2950. Documents reflecting this FAA action may be reviewed at this same location or at Capital Region International Airport, Lansing, Michigan.

SUPPLEMENTARY INFORMATION: Following is a legal description of the property located in Lansing, Clinton County, Michigan, and described as follows:

Parcels 222 & 223 (0.26 ACRES) south part of newly acquired property by capital city airport. To be conveyed to Consumers Energy (to give 162.67 feet frontage on proposed Dewitt road). PART OF THE NORTH ½ OF THE SOUTHEAST ¼ OF THE SOUTHEAST ¼ OF SECTION 32, TSN-R2W. DEWITT TOWNSHIP, CLINTON COUNTY, MICHIGAN. DESCRIBED AS BEGINNING AT A POINT WHICH IS DEFINED BY THE FOLLOWING THREE (3) COURSES FROM THE SOUTHEAST CORNER OF SAID SECTION: (I)NO1-2323-30W. ALONG THE EAST LINE OF SAID SECTION, 1324.86 FEET AND (2]S88-52-54″W, ALONG THE NORTH LINE OF THE SOUTHEAST ¼ OF THE SOUTHEAST ¼ OF SAID SECTION, 1187.36 FEET AND [3]S01-22-11E, ALONG THE NORTHERLY EXTENSION OF THE EASTERLY LINE OF CONSUMERS ENERGY PROPERTY AND ALONG SAID EASTERLY LINE, 502.24 FEET (RECORDED AS 500.OO FEET); THENCE FROM SAID POINT OF BEGINNING S88-52-54W. ALONG THE SOUTH LINE OF EXISTING CONSUMERS ENERGY PROPERTY, 132.00 FEET TO A POINT ON THE WEST LINE OF THE SOUTHEAST ¼ OF THE SOUTHEAST ¼ OF SAID SECTION 32; THENCE S01-22-11E, ALONG SAID WEST LINE, Lo8.59 FEET; THENCE S57-00-12E, 42.69 FEET TO A POINT ON THE WESTERLY RIGHT OF WAY LINE OF PROPOSED DEWITT ROAD (50 FEET, ½ WIDTH): THENCE NORTHEASTERLY, ALONG SAID RIGHT OF WAY LINE, 95.04 FEET ALONG A CURVE TO THE RIGHT (SAID CURVE HAVING A RADIUS OF 560.00 FEET, A DELTA ANGLE OF 09-43-26, AND A CHORD BEARING AND DISTANCE OF N37-51-31E, 94.93 FEET); THENCE CONTINUING ALONG SAID RIGHT OF WAY, N42-43-14E, 67.63 FEET; THENCE LEAVING SAID LINE, N47-16-46E. 14.37 FEET TO THE POINT OF BEGINNING; CONTAINING 0.26 ACRES OF LAND AND SUBJECT TO ANY OR ALL EASEMENTS OR RESTRICTIONS OF RECORD.

Parcel 219 (0.06 ACRES) Triangular parcel to be conveyed to Bioport to give minimum frontage along proposed Dewitt Road (area to the east of centerline of existing Dewitt Road right of way) PART OF THE SOUTHEAST ¼ OF SECTION 32, T5N-R2W, DEWITT TOWNSHIP, CLINTON COUNTY, MICHIGAN, DESCRIBED AS BEGINNING AT A POINT ON THE WESTERLY RIGHT OF WAY LINE OF PROPOSED DEWITT ROAD BEING DEFINED BY THE FOLLOWING FOUR (4) COURSES FROM THE SOUTHEAST CORNER OF SAID SECTION 32: (I) N01-23-30W, ALONG THE EAST LINE OF SAID SECTION, 1324.87 FEET AND (2) S88-52-54W, ALONG THE NORTH LINE OF THE SOUTHEAST ¼ OF THE SOUTHEAST ¼ OF SAID SECTION, 682.95 FEET AND (3) S42-43-14W, ALONG THE WESTERLY RIGHT OF WAY LINE OF PROPOSED DEWITT ROAD (100 FEET WIDE, 5O FEET HALF WIDTH), 777.73 FEET AND (4) SOUTHWESTERLY ALONG SAID RIGHT OF WAY LINE, 95.04 FEET ALONG A CURVE TO THE LEFT (SAID CURVE HAVING A RADIUS OF 560.00 FEET, A DELTA ANGLE OF 09-43-26, AND A CHORD BEARING AND DISTANCE OF S37-51-31W, 94.93 FEET),' THENCE FROM SAID POINT OF BEGINNING, CONTINUING SOUTHWESTERLY ALONG SAID WESTERLY RIGHT OF WAY LINE, 86.90 FEET ALONG A CURVE TO THE LEFT (SAID CURVE HAVING A RADIUS OF 560.00 FEET, A DELTA ANGLE OF 08-53-29, AND A CHORD BEARING AND DISTANCE OF S28-33-03W, 86.81 FEET) TO A POINT ON THE CENTERLINE OF EXISTING DEWITT ROAD; THENCE NORTHERLY ALONG SAID CENTERLINE, 113.56 FEET ALONG A CURVE TO THE LEFT (SAID CURVE HAVING A RADIUS OF 770.82 FEET, A DELTA ANGLE OF 08-26-28, AND A CHORD BEARING AND DISTANCE OF N07-17-09W, 113.46 FEET); THENCE LEAVING SAID CENTERLINE S57-00-12E, 66.63 FEET TO THE POINT OF BEGINNING; CONTAINING 0.06 ACRES (2627.7 SQUARE FEET) OF LAND AND SUBJECT TO ANY OR ALL EASEMENTS OR RESTRICTIONS OF RECORD.

Parcel 219 (1.13 Acres) To be conveyed to Bioport. PART OF THE SOUTHWEST ¼ OF THE SOUTHEAST ¼ OF SECTION 32, T5N-R2W, DEWITT TOWNSHIP, CLINTON COUNTY, MICHIGAN. DESCRIBED AS BEGINNING AT A POINT ON THE NORTH LINE OF THE SOUTHWEST ¼ OF THE SOUTHEAST ¼ OF SAID SECTION 32. WHICH IS N00-01-10W, ALONG THE EAST LINE OF SAID SECTION, 1324.51 FEET AND N89-41-58W ALONG THE EAST AND WEST ⅛ LINE, 1319.56 FEET AND S00-00-01E ALONG THE EAST ⅛ LINE, 140.00 FEET FROM THE SOUTHEAST CORNER OF SAID SECTION 32; THENCE CONTINUING S00-01-55E, 526.95 FEET TO THE NORTH LINE OF THE PLAT OF LAKE VIEW FARMS EXTENDED; THENCE N89-41-22W, 10.91 FEET TO THE CENTERLINE OF DEWITT ROAD; THENCE ALONG CENTERLINE OF DEWITT ROAD FOR THE NEXT TWO COURSES, ALONG A 770.82 FOOT RADIUS TO THE LEFT (DELTA= 22-19-36, CHORD= N16-03-56, 298.47 FEET) FOR 300.37 FEET; THENCE N27-13-45W, 271.28 FEET; THENCE S89-41-58E, 217.34 FEET TO THE PLACE OF BEGINNING. CONTAINING 1.13 ACRES OF LAND, SUBJECT TO ANY EASEMENT OR RESTRICTIONS OF RECORD.

Parcels 223, 224, 225, 226, 227, and 228 (5.882 Acres) PART OF THE SE ¼ OF THE SE ¼ OF SECTION 32, T5N, R2W AND PART OF LOTS 29-34 OF THE PLAT AND AMENDED PLAT OF LAKE VIEW FARMS, DEWITT TOWNSHIP, CLINTON COUNTY, MICHIGAN, MORE FULLY DESCRIBED AS FOLLOWS: BEGINNING AT A POINT ON THE SOUTH LINE OF LAKE VIEW FARMS SUBDIVISION WHICH IS N89-43-50W, 1273.68 FEET ALONG THE SOUTH LINE OF SAID SECTION 32 AND N00-05-43W, 33.00 FEET FROM THE SE CORNER OF SAID SECTION 32; THENCE ALONG THE EASTERLY PROPOSED RIGHT-OF-WAY OF DEWITT ROAD RELOCATION FOR THE NEXT THREE COURSES. N00-05-43W, 340.51 FEET; THENCE ALONG A 460.00 FOOT RADIUS CURVE TO THE RIGHT (DELTA = 44-13-44, CHORD = N22-01-09E, 346.34 FEET) FOR 355.09 FEET; THENCE N44-08-01E, 44.42 FEET; THENCE S00-02-36W. 68.43 FEET TO THE NORTH LINE OF LAKE VIEW FARMS SUBDIVISION; THENCE ALONG THE NORTH LINE OF LAKEVIEW FARMS SUBDIVISION S89-41-22E, 460.38 FEET TO THE NE CORNER OF LOT 34 OF SAID SUBDIVISION; THENCE ALONG THE EAST LINE OF LOTS 32, 33 & 34 OF SAID SUBDIVISION S00-12-25E, 330.00 FEET TO THE SE CORNER OF SAID LOT 32; THENCE ALONG THE SOUTH LINE OF SAID LOT 32 N 89′41′22″ W. 330.00 FEET TO THE NE CORNER OF LOT 31 OF SAID SUBDIVSION; THENCE ALONG THE EAST LINE OF LOTS 30 AND 31 OF SAID SUBDIVISION S00-09-34E, 164.41 FEET TO THE SE CORNER OF SAID LOT 30; THENCE ALONG THE SOUTH LINE OF SAID LOT 30 N 89′41′22″ W, 237.42 FEET TO THE EAST LINE OF THE WEST 60 FEET OF LOT 29 OF SAID SUBDIVISION; THENCE S00-05-43-E, 132.00 FEET TO THE SE CORNER OF THE WEST 50 FEET OF SAID LOT 29 AND THE NORTH RIGHT-OF-WAY LINE OF SHERIDAN AVENUE; THENCE ALONG SAID RIGHT-OF-WAY N89-43-50W. 55.00 FEET TO THE SW CORNER OF SAID LOT 29 AND THE POINT OF BEGINNING. CONTAINING 5.822 ACRES.

Issued in Romulus, Michigan on February 3, 2011.
John L. Mayfield, Jr.
Manager, Detroit Airports District Office, FAA, Great Lakes Region.

[FR Doc. 2011-7599 Filed 3-30-11; 8:45 am]

BILLING CODE P